DEPARTMENT OF COMMERCE

National Oceanic and Atmospheric Administration

[RTID 0648-XC111]

Notice of Availability of the Deepwater Horizon Oil Spill Louisiana Trustee Implementation Group Final Restoration Plan/Environmental Assessment #8: Wetlands, Coastal, and Nearshore Habitats and Finding of No Significant Impact

AGENCY: National Marine Fisheries Service (NMFS), National Oceanic and Atmospheric Administration (NOAA), Commerce.

ACTION: Announcement of availability of Environmental Assessment.

SUMMARY: In accordance with the Oil Pollution Act of 1990 (OPA), the National Environmental Policy Act of 1969 (NEPA), the Deepwater Horizon Oil Spill Final Programmatic Damage Assessment and Restoration Plan and Final Programmatic Environmental Impact Statement (Final PDARP/PEIS), and Consent Decree, the Federal and State natural resource trustee agencies for the Louisiana Trustee Implementation Group (Louisiana TIG) have approved the Final Restoration Plan/Environmental Assessment #8: Wetlands, Coastal, and Nearshore Habitats (RP/EA #8) and Finding of No Significant Impact (FONSI). In the Final RP/EA #8, the Louisiana TIG selects for implementation four restoration projects to partially restore for injuries to wetlands, coastal and nearshore habitats in the Louisiana Restoration Area. The Federal Trustees of the Louisiana TIG have determined that the implementation of the Final RP/EA #8 is not a major Federal action significantly affecting the quality of the human environment within the context of the NEPA. They have concluded a FONSI is appropriate, and, therefore, an Environmental Impact Statement will not be prepared.

ADDRESSES: Obtaining Documents: You may access the Final RP/EA #8 from the “News” section of the Louisiana TIG website at: http://www.gulfspillrestoration.noaa.gov/restoration-areas/louisiana. Alternatively, you may request a CD of the Final RP/EA #8 (see FOR FURTHER INFORMATION CONTACT below).

FOR FURTHER INFORMATION CONTACT: Mel Landry, NOAA Restoration Center, 225-425-0583, mel.landry@noaa.gov.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The DWH oil spill is the largest off shore oil spill in U.S. history, discharging millions of barrels of oil over a period of 87 days. In addition, well over one million gallons of dispersants were applied to the waters of the spill area in an attempt to disperse the spilled oil. An undetermined amount of natural gas was also released into the environment as a result of the spill.

The DWH Federal and State natural resource trustees (DWH Trustees) conducted the natural resource damage assessment for the DWH oil spill under OPA (OPA; 33 U.S.C. 2701 et seq.). Pursuant to OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The DWH Trustees are:

• U.S. Department of the Interior (DOI), as represented by the National Park Service, U.S. Fish and Wildlife Service, and Bureau of Land Management;

• National Oceanic and Atmospheric Administration (NOAA), on behalf of the

U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

The Trustees reached and finalized a settlement of their natural resource damage claims with BP in an April 4, 2016, Consent Decree approved by the United States District Court for the Eastern District of Louisiana. Pursuant to that Consent Decree, restoration projects in the Louisiana Restoration Area are now selected and implemented by the Louisiana TIG. The Louisiana TIG is composed of the following Federal Trustees: NOAA; DOI; EPA; and USDA.

Background

Notice of Availability of the Deepwater Horizon Oil Spill Louisiana Trustee Implementation Group Draft Restoration Plan/Environmental Assessment #8: Wetlands, Coastal, and Nearshore Habitats (RP/EA #8) was published in the Federal Register at 87 FR 15385 on March 18, 2022. The public comment period for the Draft RP/EA #8 closed on April 18, 2022. Six public comments were received during the comment period. All comments were reviewed and taken into consideration in the preparation of the Final RP/EA #8.

Overview of the Louisiana TIG Final RP/EA #8

In developing the RP/EA #8, the Louisiana TIG assembled a list of 697 project alternatives for the restoration of wetlands, coastal, and nearshore habitat. These alternatives were based on proposals from the public as well as agencies, including projects submitted to the DWH Trustee or Louisiana TIG portals and projects submitted by individual state and Federal Trustees, including projects submitted on behalf of non-Trustee agencies. All alternatives underwent a step-wise screening process based on criteria established by OPA and the Louisiana TIG, whereby projects that did not meet the criteria were eliminated, and duplicative alternatives were combined. This resulted in six action alternatives for wetlands, coastal, and nearshore habitats, each of which are evaluated in the RP/EA #8. Alternatives that meet the criteria but are not carried forward as preferred alternatives may be considered in future restoration plans.

Of the six alternatives evaluated, four are selected as preferred alternatives for the restoration of wetlands, coastal, and nearshore habitats. Three of the alternatives evaluated consider projects for Engineering and Design (E&D), and three of the alternatives evaluated consider projects for full implementation. The alternatives selected for implementation include the following:

• East Orleans Landbridge Restoration (E&D): Preferred, $4,900,000.

• Raccoon Island Barrier Island Restoration (E&D): Preferred, $8,200,000.

• Bayou Dularge Ridge and Marsh Restoration: Preferred, $57,500,000.

• Bayou La Loutre Ridge Restoration and Marsh Creation (PO-0178): Preferred, $32,000,000.

The RP/EA #8 also evaluates a No Action Alternative, under which no project would be constructed and no additional costs would be incurred at this time.

The Louisiana TIG has examined the injuries assessed by the DWH Trustees and evaluated restoration alternatives to address the injuries. In Final RP/EA #8, the Louisiana TIG presents to the public its restoration plan for providing partial compensation to the public for injured natural resources and ecological services in the Louisiana Restoration Area. By selecting the preferred alternatives, the proposed action is intended to continue the process of using DWH restoration funding to restore natural resources injured or lost as a result of the DWH oil spill. Additional restoration planning for the Louisiana Restoration Area will continue.

Additional Access to Materials

You may request a CD of the Final RP/EA #8 (see FOR FURTHER INFORMATION CONTACT above). Copies of the Final RP/EA #8 are also available at the following locations:

Library | Address | City | Zip code
St. Tammany Parish Library | 310 W. 21st Avenue | Covington | 70433
New Orleans Public Library, Louisiana Division | 219 Loyola Avenue | New Orleans | 70112
St. Bernard Parish Library | 1125 E St. Bernard Highway | Chalmette | 70043
Plaquemines Parish Library | 8442 Highway 23 | Belle Chasse | 70037
Jefferson Parish Library, East Bank Regional Library | 4747 W Napoleon Avenue | Metairie | 70001
Jefferson Parish Library, West Bank Regional Library | 2751 Manhattan Boulevard | Harvey | 70058
Terrebonne Parish Library | 151 Library Drive | Houma | 70360
Martha Sowell Utley Memorial Library | 314 St. Mary Street | Thibodaux | 70301
South Lafourche Public Library | 16241 E Main Street | Cut Off | 70345
East Baton Rouge Parish Library | 7711 Goodwood Boulevard | Baton Rouge | 70806
Alex P. Allain Library | 206 Iberia Street | Franklin | 70538
St. Martin Parish Library | 201 Porter Street | St. Martinville | 70582
Iberia Parish Library | 445 E Main Street | New Iberia | 70560
Vermilion Parish Library | 405 E St. Victor Street | Abbeville | 70510
Mark Shirley, LSU AgCenter | 1105 West Port Street | Abbeville | 70510
Calcasieu Parish Public Library Central Branch | 301 W Claude Street | Lake Charles | 70605

Translation Opportunities

Vietnamese translated materials including the Executive Summary and project fact sheets are posted in the “News” section of the Louisiana TIG's website: http://www.gulfspillrestoration.noaa.gov/restoration-areas/louisiana.

Administrative Record

The documents comprising the Administrative Record for the Final RP/EA #8 can be viewed electronically at http://www.doi.gov/deepwaterhorizon/adminrecord.

Authority

The authority of this action is the Oil Pollution Act of 1990 (33 U.S.C. 2701 et seq.) and its implementing Oil Pollution Act Natural Resource Damage Assessment regulations found at 15 CFR part 990 and the National Environmental Policy Act of 1969 (42 U.S.C. 4321 et seq.).

Dated: July 29, 2022.
Carrie Diane Robinson,
Director, Office of Habitat Conservation, National Marine Fisheries Service.

[FR Doc. 2022-16709 Filed 8-3-22; 8:45 am]

BILLING CODE 3510-22-P